DEPARTMENT OF TRANSPORTATION

Federal Aviation Administration

Order 1050.1F Environmental Impacts: Policies and Procedures

AGENCY: Federal Aviation Administration (FAA), DOT.

ACTION: Notice requesting comment on proposed Order 1050.1F Environmental Impacts: Policies and Procedures; Re-Opening of Comment Period.

SUMMARY: This action re-opens the comment period for the notice of draft Order 1050.1F, Environmental Impacts: Policies and Procedures that was published on August 14, 2013. Airports Council International—North America (ACI-NA), which represents local, regional and state governing bodies that own and operate commercial airports across the United States, requested that the FAA extend the comment period for 14 days.

DATES: The notice of the comment period for the Order was published on August 14, 2013 (78 FR 49596), closed September 30, 2013, and is re-opened until November 8, 2013.

ADDRESSES: You may send comments identified by Docket No. FAA-2013-0685 using any of the following methods:

Federal eRulemaking Docket: Go to http://www.regulations.gov. Follow the online instructions for sending your comments electronically.

Facsimile: Fax comments to the docket operations personnel at 202-493-2251.

Mail: Send comments to the U.S. Department of Transportation, Docket Operations, M-30, West Building Ground Floor, Room W12-140, 1200 New Jersey Avenue SE., Washington, DC 20590-0001.

Hand Deliver: Deliver comments to the Docket Operations Room on the ground floor of the West Building at U.S. Department of Transportation, Docket Operations, M-30, West Building Ground Floor, Room W12-140, 1200 New Jersey Avenue SE., Washington, DC, between 9:00 a.m. and 5:00 p.m., Monday through Friday, except Federal holidays.

Privacy: We will post all comments we receive, without change, to http://www.regulations.gov, including any personal information the commenter provides. Using the search function of the docket Web site, anyone can find and read the electronic form of all comments received into any FAA docket, including the name of the individual sending the comment (or signing the comment for an association, business, labor union, etc.). DOT's complete Privacy Act Statement can be found in the Federal Register published on April 11, 2000 (65 FR 19477), as well as at http://DocketsInfo.dot.gov.

Docket: You may examine the docket, including comments received, on the Internet at http://www.regulations.gov or in person at the U.S. Department of Transportation Docket Operations office between 9:00 a.m. and 5:00 p.m., Monday through Friday, except Federal holidays, at U.S. Department of Transportation, Docket Operations, M-30, West Building Ground Floor, Room W12-140, 1200 New Jersey Avenue SE., Washington, DC.

FOR FURTHER INFORMATION CONTACT: Donald Scata, Office of Environment and Energy (AEE-400), Federal Aviation Administration, 800 Independence Avenue SW., Washington, DC 20591; telephone (202) 267-9890; email donald.scata@faa.gov.

Background: On August 14, 2013, the FAA issued a Notice requesting comment on proposed Order 1050.1F, Environmental Impacts: Policies and Procedures. In that notice, the FAA sought comment on proposed revisions to Order 1050.1E, which contains policies and procedures for implementing the National Environmental Policy Act (78 FR 49596). The draft revised order, re-numbered as Order 1050.1F, is available at http://www.faa.gov/about/office_org/headquarters_offices/apl/environ_policy_guidance/policy/. The notice stated that comments to that document were to be received on or before September 30, 2013.

By letter dated September 16, 2013, Airports Council International—North America (ACI-NA), which represents local, regional and state governing bodies that own and operate commercial airports across the United States, requested that the FAA extend the comment period for 14 days. ACI-NA noted that the comment period occurs during an extremely busy time for airports, and stated that the requested extension is necessary for the organization to consider issues raised by the proposed revisions to Order 1050.1E.

In response to ACI-NA's request, the FAA is re-opening the comment period until November 8, 2013. Absent unusual circumstances, the FAA does not anticipate any further extension of the comment period for this rulemaking.

Re-Opening of Comment Period: The FAA has reviewed ACI-NA's request for an extension of the comment period for this notice. ACI-NA has shown a substantive interest in the proposed policy and good cause for re-opening of the comment period. The FAA has determined that re-opening of the comment period is consistent with the public interest, and that good cause exists for taking this action.

Accordingly, the comment period for this notice is extended to November 8, 2013. All comments received between August 14, 2013 and November 8, 2013 will be considered.

Issued in Washington, DC, on October 25, 2013.
Lourdes Q. Maurice,
Executive Director, Office of Environment and Energy.

[FR Doc. 2013-25820 Filed 10-30-13; 8:45 am]

BILLING CODE 4910-13-P